DEPARTMENT OF ENERGY

Office of Fossil Energy

[FE Docket No. 93-30-NG et al]

Enron Canada Corp. (Formerly Enron Capital & Trade Resources Canada Corp.) et al; Orders Granting, Amending and Vacating Authorizations to Import and Export Natural Gas, Including Liquefied Natural Gas

AGENCY: Office of Fossil Energy, DOE.

ACTION: Notice of Orders.

SUMMARY: The Office of Fossil Energy (FE) of the Department of Energy gives notice that it has issued Orders granting, amending and vacating natural gas, including liquefied natural gas import and export authorizations. These Orders are summarized in the attached appendix.

These Orders may be found on the FE web site at http://www.fe.doe.gov., or on the electronic bulletin board at (202) 586-7853. They are also available for inspection and copying in the Office of Natural Gas & Petroleum Import & Export Activities, Docket Room 3E-033, Forrestal Building, 1000 Independence Avenue, S.W., Washington, D.C. 20585, (202) 586-9478. The Docket Room is open between the hours of 8:00 a.m. and 4:30 p.m., Monday through Friday, except Federal holidays.

Issued in Washington, D.C., on January 10, 2000.
Clifford P. Tomaszewski,
Manager, Natural Gas Regulation, Office of Natural Gas & Petroleum Import & Export Activities, Office of Fossil Energy.

Attachment

Appendix—Orders Granting, Amending and Vacating Import/Export Authorizations
[DOE/FE Authority]
Order No. | Date issued | Importer/exporter FE docket No. | Import volume | Export volume | Comments
798-C | 12-07-99 | Enron Canada Corp. (Formerly Enron Capital & Trade Resources Canada Corp.)93-30-NG |  |  | Name change.
1547 | 12-07-99 | Bay State Gas Company 99-97-NG | 40 Bcf |  | Import from Canada, over a two-year term beginning on the date of first delivery after January 6, 2000.
1548 | 12-08-99 | NUI Energy Brokers, Inc. 99-102-NG | 250 Bcf |  | Import and export up to a combined total from and to Canada and Mexico, over a two-year term beginning on October 1, 1999, and extending through September 30, 2001.
1550 | 12-08-99 | Phibro Inc. 99-98-NG | 200 Bcf | 200 Bcf | Import from Canada, including LNG, and export to Canada over a two-year term beginning on January 1, 2000, and extending through December 31, 2001.
1551 | 12-08-99 | Phibro Inc. 99-99-NG | 200 Bcf | 200 Bcf | Import from Mexico, including LNG, and export to Mexico over a two-year term beginning on January 1, 2000, and extending through December 31, 2001.
1552 | 12-09-99 | Direct Energy Marketing Inc. 99-100-NG | 200 Bcf |  | Import from Canada, over a two-year term beginning on February 1, 2000, and extending through January 31, 2002.
1355-A | 12-09-99 | Semco Energy Services, Inc. 98-07-NG |  |  | Vacate blanket import authority.
1553 | 12-10-99 | Vermont Gas Systems, Inc. 99-104-NG | 20 Bcf | 20 Bcf | Import and export from and to Canada, over a two-year term beginning on December 23, 1999, and extending through December 22, 2001.
1554 | 12-14-99 | American Hunter Energy Inc. 99-103-NG | 300 Bcf |  | Import from Canada, over a two-year term beginning on the date of first delivery.
1555 | 12-15-99 | The Consumers' Gas Company Ltd. (d.b.a. Enbridge Consumers Gas) 99-106-NG |  | 100 Bcf | Export to Canada, over a two-year term beginning on the date of first delivery after December 31, 1999.
1556 | 12-17-99 | Portland Natural Gas Transmission System 99-111-NG | 100 Bcf |  | Import and export up to a combined total from and to Canada, over a two-year term beginning on the date of first delivery.
1462-A | 12-17-99 | Portland Natural Gas Transmission System 99-11-NG |  |  | Vacate blanket import authority.
1557 | 12-21-99 | San Diego Gas & Electric Company 99-107-NG | 73 Bcf |  | Import from Canada, over a two-year term beginning on December 1, 1999, and extending through November 30, 2001.
1558 | 12-23-99 | Enron North America Corp. (Formerly Enron Capital & Trade Resources Corp.) 99-105-NG | 1,400 Bcf | 1,400 Bcf | Import from Canada and Mexico, a combined total and export to Canada and Mexico, over a two-year term beginning on January 1, 2000, and extending through December 31, 2001.
1559 | 12-23-99 | Marathon Oil Company 99-108-NG | 100 Bcf |  | Import and export up to a combined total from and to Canada and Mexico, over a two-year term beginning on the date of first delivery.
1560 | 12-23-99 | EnergyUSA-TPC Corp. (Formerly TPC Corporation) 99-112-NG | 73 Bcf |  | Import and export up to a combined total from and to Canada, over a two-year term beginning on January 1, 2000, and extending through December 31, 2001.
1561 | 12-28-99 | Utilicorp United Inc. 99-113-NG | 200 Bcf |  | Import and export up to a combined total from and to Canada, over a two-year term beginning January 1, 2000, and extending through December 31, 2001.
1562 | 12-29-99 | El Paso Merchant Energy-Gas, L.P. 99-109-NG | 400 Bcf |  | Import from Canada, over a two-year term beginning on the date of first delivery after December 31, 1999.

[FR Doc. 00-1073 Filed 1-14-00; 8:45 am]

BILLING CODE 6450-01-P